DEPARTMENT OF VETERANS AFFAIRS

Research Advisory Committee on Gulf War Veterans' Illnesses, Notice of Meeting

The Department of Veterans Affairs (VA) gives notice under the Federal Advisory Committee Act, 5 U.S.C. App.2, that the Research Advisory Committee on Gulf War Veterans' Illnesses will meet at the Oahu Vet Center, 1298 Kukila St., Honolulu, HI 96818. The meeting sessions will begin and end as follows:

Dates | Times
February 8, 2023 | 9 a.m. to 3 p.m. Hawaii Standard Time (HST).
February 9, 2023 | 9 a.m. to 12:30 p.m. HST.

All sessions will be open to the public. For interested parties who cannot attend in person, this meeting will also be available by videoconference by connecting to Webex at the following URLs:

February 8, 2023, 9 a.m. to 3 p.m. (HST): https://veteransaffairs.webex.com/veteransaffairs/j.php?MTID=m180644b0049f6bc52a42db08d8b7bccb or join by phone: 1-833-558-0712 Toll-free; meeting number (access code): 2764 095 6460. Meeting password: GWVets1991!Day1

February 9, 2023, 9 a.m. to 12:30 p.m. (HST): https://veteransaffairs.webex.com/veteransaffairs/j.php?MTID=m782f699f53f6e789f4459322cef9cdaa or, join by phone: 1-833-558-0712 Toll-free; meeting number (access code): 2763 890 9669. Meeting password: GWVets1991!Day2

The purpose of the Committee is to provide advice and make recommendations to the Secretary of Veterans Affairs on proposed research studies, research plans, and research strategies relating to the health consequences of military service in the Southwest Asia theater of operations during the Gulf War in 1990-91.

The Committee will review VA program activities related to Gulf War Veterans' illnesses and updates on relevant scientific research published since the last Committee meeting. This meeting will focus on 1990-91 military exposures, exposure assessment, and the health effects of genes, lifestyle and military exposures.

The meeting will include time reserved for public comments 30 minutes before the meeting closes each day. Individuals who wish to address the Committee may submit a 1-2 page summary of their comments for inclusion in the official meeting record. Members of the public may submit written statements for the Committee's review or seek additional information by contacting Dr. Karen Block, Designated Federal Officer, at 202-443-5600, or at Karen.Block@va.gov.

Dated: January 3, 2023.
LaTonya L. Small,
Federal Advisory Committee Management Officer.

[FR Doc. 2023-00135 Filed 1-6-23; 8:45 am]

BILLING CODE P